DEPARTMENT OF DEFENSE

GENERAL SERVICES ADMINISTRATION

NATIONAL AERONAUTICS AND SPACE ADMINISTRATION

48 CFR Parts 1, 16, 22, 31, 52, and 53

[FAC 2005-78; Item V; Docket No. 2014-0053; Sequence No. 4]

Federal Acquisition Regulation; Technical Amendments

AGENCY: Department of Defense (DoD), General Services Administration (GSA), and National Aeronautics and Space Administration (NASA).

ACTION: Final rule.

SUMMARY: This document makes amendments to the Federal Acquisition Regulation (FAR) in order to make editorial changes.

DATES: Effective: November 25, 2014.

FOR FURTHER INFORMATION CONTACT: The Regulatory Secretariat Division (MVCB), 1800 F Street NW., 2nd Floor, Washington, DC 20405, 202-501-4755, for information pertaining to status or publication schedules. Please cite FAC 2005-78, Technical Amendments.

SUPPLEMENTARY INFORMATION: In order to update certain elements in 48 CFR parts 1, 16, 22, 31, 52, and 53 this document makes editorial changes to the FAR.

List of Subject in 48 CFR Parts 1, 16, 22, 31, 52, and 53

Government procurement.

Dated: November 17, 2014.
William Clark,
Acting Director, Office of Government-wide Acquisition Policy, Office of Acquisition Policy, Office of Government-wide Policy.

Therefore, DoD, GSA, and NASA amend 48 CFR parts 1, 16, 22, 31, 52, and 53 as set forth below:

1. The authority citation for 48 CFR parts 1, 16, 22, 31, 52, and 53 continues to read as follows:

Authority: 40 U.S.C. 121(c); 10 U.S.C. chapter 137; and 51 U.S.C. 20113.

PART 1—FEDERAL ACQUISITION REGULATIONS SYSTEM

1.106 [Amended]

2. Amend section 1.106 in the table following the introductory text, by adding in numerical sequence, FAR segment “52.203-13” and its corresponding OMB Control Number “9000-0164”.

PART 16—TYPES OF CONTRACTS

16.103 [Amended]

3. Amend section 16.103 by removing paragraph (d) introductory text and paragraph (d)(3).

PART 22—APPLICATION OF LABOR LAWS TO GOVERNMENT ACQUISITIONS

22.1006 [Amended]

4. Amend section 22.1006 by—

a. Removing from paragraph (a)(2)(i)(C) “52.204-8(c)(2)(ii) or (iii)” and adding “52.204-8(c)(2)(iii) or (iv)” in its place;

b. Removing from paragraph (e)(2)(i) “52.204-8(c)(2)(ii)” and adding “52.204-8(c)(2)(iii)” in its place; and

c. Removing from paragraph (e)(4)(i) “52.204-8(c)(2)(iii)” and adding “52.204-8(c)(2)(iv)” in its place.

PART 31—CONTRACT COST PRINCIPLES AND PROCEDURES

31.109 [Amended]

5. Amend section 31.109 by—

a. Adding the word “and” at the end of paragraph (h)(15);

b. Removing paragraph (h)(16); and

c. Redesignating paragraph (h)(17) as paragraph (h)(16).

PART 52—SOLICITATION PROVISIONS AND CONTRACT CLAUSES

6. Amend section 52.204-8 by removing paragraphs (c)(1)(xxi)(i) through (vi); and adding paragraph (c)(2) to read as follows:

52.204-8 Annual Representations and Certifications.

* * * * *

(c) * * *

(2) The following certifications are applicable as indicated by the Contracting Officer:

[Contracting Officer check as appropriate.]

_ (i) 52.204-17, Ownership or Control of Offeror.

_ (ii) 52.222-18, Certification Regarding Knowledge of Child Labor for Listed End Products.

_ (iii) 52.222-48, Exemption from Application of the Service Contract Labor Standards to Contracts for Maintenance, Calibration, or Repair of Certain Equipment—Certification.

_ (iv) 52.222-52, Exemption from Application of the Service Contract Labor Standards to Contracts for Certain Services—Certification.

_ (v) 52.223-9, with its Alternate I, Estimate of Percentage of Recovered Material Content for EPA-Designated Products (Alternate I only).

_ (vi) 52.227-6, Royalty Information.

_ (A) Basic.

_ (B) Alternate I.

_ (vii) 52.227-15, Representation of Limited Rights Data and Restricted Computer Software.

* * * * *

PART 53—FORMS

53.219 [Amended]

7. Amend section 53.219 by removing “(Rev. OCT 2014)” and adding “(Rev. 8/2014)” in its place.

[FR Doc. 2014-27662 Filed 11-24-14; 8:45 am]

BILLING CODE 6820-EP-P